DEPARTMENT OF HOUSING AND URBAN DEVELOPMENT

[Docket No. FR-5420-N-04]

Notice of Regulatory Waiver Requests Granted for the Fourth Quarter of Calendar Year 2010

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on October 1, 2010, and ending on December 31, 2010.

FOR FURTHER INFORMATION CONTACT: For general information about this notice, contact Camille E. Acevedo, Associate General Counsel for Legislation and Regulations, Department of Housing and Urban Development, 451 7th Street, SW., Room 10282, Washington, DC 20410-0500, telephone 202-708-1793 (this is not a toll-free number). Persons with hearing- or speech-impairments may access this number through TTY by calling the toll-free Federal Information Relay Service at 800-877-8339.

For information concerning a particular waiver that was granted and for which public notice is provided in this document, contact the person whose name and address follow the description of the waiver granted in the accompanying list of waivers that have been granted in the fourth quarter of calendar year 2010.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from October 1, 2010 through December 31, 2010. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the fourth quarter of calendar year 2010) before the next report is published (the first quarter of calendar year 2011), HUD will include any additional waivers granted for the fourth quarter in the next report.

Accordingly, information about approved waiver requests pertaining to HUD regulations is provided in the Appendix that follows this notice.

Dated: March 24, 2011.
Helen R. Kanovsky,
General Counsel.

Appendix—Listing of Waivers of Regulatory Requirements Granted by Offices of the Department of Housing and Urban Development October 1, 2010 Through December 31, 2010

Note to Reader: More information about the granting of these waivers, including a copy of the waiver request and approval, may be obtained by contacting the person whose name is listed as the contact person directly after each set of regulatory waivers granted.

The regulatory waivers granted appear in the following order:

I. Regulatory Waivers Granted by the Office of Community Planning and Development

II. Regulatory Waivers Granted by the Office of Housing

III. Regulatory Waivers Granted by the Office of Public and Indian Housing

I. Regulatory Waivers Granted by the Office of Community Planning and Development

For further information about the following regulatory waivers, please see the name of the contact person that immediately follows the description of the waiver granted.

• Regulation: 24 CFR 50.17(e).

Project/Activity: The Turtleville project in Belcourt, ND, contained 117 units of housing that were built upon a former landfill and suffered from mold. Replacement housing was built and families were relocated. The unoccupied housing at Turtleville became an attractive nuisance to the community and the Turtle Mountain Housing Authority demolished the housing with funds under the Native American Housing Assistance and Self-Determination Act of 1996 (NAHASDA) before completing an environmental review to address the public health and safety concerns.

In accordance with 24 CFR part 58 (§§ 58.11(c) and (d) and 58.77(d)(1)), HUD agreed to assist the Tribe by re-assuming environmental responsibilities for the project.

Nature of Requirement: The regulation requires that when HUD exercises environmental responsibility under 24 CFR part 50 for projects originally subject to 24 CFR part 58, an Environmental Assessment and Finding of No Significant Impact shall be completed before HUD's execution of a contract.

Granted by: Mercedes M. Márquez, Assistant Secretary for Community Planning and Development.

Date Granted: October 29, 2010.

Reason Waived: The waiver was granted based on the following findings: (1) The project will further the HUD mission and will advance HUD program goals to support safe communities and decent and safe housing; (2) the need for reversion of environmental responsibilities for this project from 24 CFR part 58 to 24 CFR part 50 arose after HUD has signed a contract providing for assistance under NAHASDA; and (3) based on the environmental assessment and the HUD field inspection, granting a waiver will not result in any unmitigated, adverse environmental impact.

Contact: Danielle Schopp, Office of Environment and Energy, Office of Community Planning and Development, Department of Housing and Urban Development, 451 Seventh Street, SW., Room 7250, Washington, DC 20410-7000, telephone (202) 402-4442.

• Regulation: 24 CFR 570.200(h)(1)(ii).

Project/Activity: The city of Baltimore, MD, requested a waiver of the regulation pertaining to pre-award costs, in order to be permitted to incur costs for Community Development Block Grant (CDBG) program eligible activities beginning with its July 1, 2010, program year start date, rather than the August 9, 2010 date on which the city's fiscal year 2010-2014 Consolidated Plan was submitted to HUD.

Nature of Requirement: HUD's regulations at 24 CFR 570.200(h)(1)(i) through (vi) establish the conditions under which a CDBG entitlement grantee may incur costs prior to the effective date of the grant agreement between HUD and the grantee. After the effective date of the grant agreement, the grantee may pay for those costs using CDBG funds provided those conditions are met.

Granted by: Mercedes M. Márquez, Assistant Secretary for Community Planning and Development.

Date Granted: October 27, 2010.

Reason Waived: The Department determined that Baltimore complied with the conditions described in 24 CFR 570.200(h)(1)(i), (iii), (iv), (v) and (vi). Citizens are to be advised of the extent to which pre-award costs will affect future grants pursuant to 24 CFR 570.200 (h)(1)(iii). At the time the costs were incurred, however, it appears that the city may not have complied with this provision. Based on the information provided by the city, the costs in question were allocable to the city's current CDBG award and the city will not use a future CDBG grant for those costs. Therefore, because Baltimore's future CDBG awards will not be affected by this action, HUD waived the requirement at 24 CFR 570.200(h)(1)(ii).

Contact: Valerie Browne, Office of Block Grant Assistance, Entitlement Communities Division, Office of Community Planning and Development, Department of Housing and Urban Development, 451 Seventh Street, SW., Room 7282, Washington, DC 20410, telephone (202) 402-4533.

• Regulation: 24 CFR 570.209(b)(3)(i)(A).

Project/Activity: The city of Cleveland, Ohio requested a waiver of the public benefit standards for special economic development activities at 24 CFR 570.209(b)(3)(i)(A) for an individual activity. The waiver would allow the city to provide financial assistance, i.e. Section 108 Guaranteed Loan funds, to Dunham Square Land, LLC, a for-profit developer in the City of Cleveland.

Nature of Requirements: HUD's regulation at 24 CFR 570.209(b)(3)(i)(A) specifies that for special economic development activities that create or retain jobs, the use of Community Development Block Grant funds cannot exceed $50,000 per full-time equivalent job for individual activities. The city's activity did not meet the individual public benefit requirement because the actual dollar per full-time equivalent job was $71,334.

Granted by: Mercedes M. Márquez, Assistant Secretary for Community Planning and Development.

Date Granted: October 6, 2010.

Reasons Waived: HUD granted the waiver because the waiver would assist the city in completing its Empowerment Zone redevelopment strategy of creating new jobs and leveraging new investment in one of its most distressed neighborhoods. Additionally, it was determined that the activity would result in the creation of 150 full-time equivalent jobs.

Contact: Paul D. Webster, Director, Financial Management Division, Office of Block Grant Assistance, Community Planning and Development, Department of Housing and Urban Development, 451 Seventh Street SW., Room 7178, Washington, DC 20410-7000, telephone (202) 708-1871.

• Regulation: 24 CFR 570.705(f).

Project/Activity: The city of Scranton, Pennsylvania, requested a waiver of the limit on the repayment period for a loan guaranteed pursuant to Section 108 of the Housing and Community Development Act of 1974, as amended. The waiver will permit the city of Scranton to extend the maturity of its pass-through loan (the “Obligor Loan”) to Steamtown Mall Partners, L.P., which operates a downtown mall facility.

Nature of Requirements: HUD's regulations at 24 CFR 570.705(f) provide that the maximum loan repayment period on a debt obligation guaranteed under Section 108 is 20 years. Since the debt obligation in question was originally issued in 1992, the final principal payment permitted on the Section 108 obligation is August 1, 2012. Consequently, the requested maturity date of August 1, 2013 would be prohibited by the regulatory limitation.

Granted by: Mercedes M. Márquez, Assistant Secretary for Community Planning and Development.

Date Granted: December 20, 2010.

Reasons Waived: HUD granted the waiver to facilitate the extension of the Obligor Loan and thereby avoid the loss of 900 jobs, numerous store closings, and the potential vacancy of the lynchpin building of the city's downtown renovation. Failure to grant the waiver would have required the city of Scranton to apply CDBG funds, in lieu of other funds anticipated to be available in July 2013, to the payment due on the Section 108 loan. Such application of CDBG funds would deprive the city of resources that would otherwise be used to meet the community development needs of an economically distressed city.

Contact: Paul D. Webster, Director, Financial Management Division, Office of Block Grant Assistance, Community Planning and Development, Department of Housing and Urban Development, 451 Seventh Street, SW., Room 7178, Washington, DC 20410-7000, telephone (202) 708-1871.

• Regulation: Section IV.A.1 of the Notice of Allocations, Application Procedures, and Requirements for Homeless Prevention and Rapid Re-Housing Program Grantees under the American Recovery and Reinvestment Act of 2009 (HPRP Notice).

Project/Activity: Homelessness Prevention and Rapid Re-Housing Program (HPRP) grantee, the City of San Diego, California, requested a waiver in order to provide financial assistance to HPRP participants in housing owned by the subgrantee, San Diego Housing Commission (SDHC).

Nature of Requirement: Subsection IV.A.1 of the HPRP Notice provides that HPRP financial assistance may not be used in connection with housing owned by the grantee, subgrantee, or the parent, subsidiary, or affiliated organization of the subgrantee.

Granted by: Mercedes M. Márquez, Assistant Secretary for Community Planning and Development.

Date Granted: November 18, 2010.

Reason Waived: The subgrantee provided sufficient information for HUD to conclude the following:

(1) The use of the housing owned by SDHC is necessary to provide an adequate supply of appropriate housing options for HPRP participants; (2) SDHC disclosed the conflict of interest; (3) SDHC's attorney reviewed the conflict of interest and determined that the use of the housing owned by the subgrantee would not violate State or local law; (4) HPRP participants would not be required or steered to live in SDHC's housing in order to receive financial or other assistance under HPRP; (5) the use of the housing owned by SDHC would not result in any personal or financial gain for any employee of the grantee, subgrantee, or the parent, subsidiary, or affiliated organization of the subgrantee; and (6) the housing owned by SDHC is not subsidized through another federal, state, or local housing program.

Contact: Ann M. Oliva, Director, Office of Special Needs Assistance Programs, Office of Community Planning and Development, Department of Housing and Urban Development, 451 Seventh Street, SW., Room 7262, Washington, DC 20410-7000, telephone number (202) 708-4300.

• Regulation: Section III.A of the HPRP Notice.

Project/Activity: HPRP grantee, the State of Utah, requested a waiver to retain and use its grant funds to directly carry out Data Collection and Evaluation activities under HPRP.

Nature of Requirement: Section III.A. of the HPRP Notice provides that a state grantee must make available all of its formula allocation, except for an appropriate share of funds for the administrative costs, to units of general local government and private nonprofit organizations in the state to carry out all eligible activities.

Granted by: Mercedes M. Márquez, Assistant Secretary for Community Planning and Development.

Date Granted: December 23, 2010.

Reason Waived: The grantee provided sufficient information for HUD to conclude the following: (1) The Homeless Management Information System (HMIS) was already in place; (2) the HMIS was being administered by the State of Utah, and (3) the alternative proposal of utilizing a fee structure to administer HMIS and meet the requirements in the Recovery Act would impose additional administrative burdens for the State.

Contact: Ann M. Oliva, Director, Office of Special Needs Assistance Programs, Office of Community Planning and Development, Department of Housing and Urban Development, 451 Seventh Street, SW., Room 7262, Washington, DC 20410-7000, telephone number (202) 708-4300.

II. Regulatory Waivers Granted by the Office of Housing—Federal Housing Administration (FHA)

For further information about the following regulatory waivers, please see the name of the contact person that immediately follows the description of the waiver granted.

• Regulation: 24 CFR 200.926d (f)(1)(i) and (2)(i).

Project/Activity: This request for waiver pertains to certain boroughs in the State of Alaska, specifically Juneau, Mantanuska-Susitna, Anchorage, Bethel, North Slope (Barrow), Fairbanks (North Star and Southeast) and the Kenai Peninsula, where conventional water supply systems, such as those required under FHA's Minimum Property Standards are not feasible as water sources due to the unique geographical characteristics present there.

Nature of Requirement: FHA's Minimum Property Standards (MPS) regulations governing new construction for single-family dwellings, 24 CFR 200.926d(f)(1)(i) and (f)(2)(i) provide that to be eligible for FHA insurance, each living unit within a newly constructed single-family residential property should be capable of delivering a flow of 5 gallons per minute (gpm) over a 4 hour period in order to provide a continuing and sufficient supply of safe water under adequate pressure and appropriate quality for household use.

Granted by: David H. Stevens, Assistant Secretary for Housing—Federal Housing Commissioner.

Waiver Date Granted: October 15, 2010.

Reason Waived: The waiver was granted to allow in these Alaska boroughs for FHA mortgage insurance to be secured by properties, otherwise eligible for FHA mortgage insurance, that rely upon hauled water, cisterns and other alternative water supply systems where there is no other acceptable permanent water supply available.

Contact: Peter Gillispie, Housing Program/Policy Specialist, Home Valuation Policy Division, Office of Single Family Program Development, Office of Housing, Department of Housing and Urban Development, 451 Seventh Street, SW., Room 9270, Washington, DC 20410, telephone (202) 402-3439.

• Regulation: 24 CFR 219.220(b).

Project/Activity: Smith Keys Village Apartments, FHA No. 082-35019. The owner requested permission to defer repayment of the Flexible Subsidy Loan on this project.

Nature of Requirement: Section 219.220(b) of HUD's regulations govern the repayment of operating assistance provided under the Flexible Subsidy Program for Troubled Projects (Flexible Subsidy Program) and, prior to May 1, 1996, this provisions states: “Assistance that has been paid to a project owner under this subpart must be repaid at the earlier of the expiration of the term of the mortgage, termination of the mortgage, termination of mortgage insurance, prepayment of the of the mortgage, or sale of the project, termination of these actions would typically terminate FHA involvement with the property, and the Flexible Subsidy loan would be repaid, in whole, at that time.” Any of these actions typically would terminate FHA involvement with the property, and the Flexible Subsidy Loan would be repaid, in whole, at this time. The Section 221(d)(3) mortgage on the project matured in September 2004.

Granted by: David H. Stevens, Assistant Secretary for Housing-Federal Housing Commissioner.

Date Granted: September 30, 2010.

Reason Waived: This regulation was waived in order to allow the owner to defer repayment and re-amortize the existing balance plus accrued interest on the Flexible Subsidy Loan over a 15-year period. The owner will execute and record a Use Agreement for the term of the re-amortized Flexible Subsidy Loan. This waiver will ensure preservation of the project as an affordable housing resources for an additional 15 years.

Contact: James C. Wyatt, Housing Program Manger, Field Asset Management Division, Office of Housing, Department of Housing and Urban Development, 451 Seventh Street, SW., Room 6168, Washington, DC 20410-8000, telephone (202) 708-3730, extension 2519.

• Regulation: 24 CFR 219.220(b).

Project/Activity: Grote Street Apartments—FHA Project Number 012-060NI, Bronx, New York. The owner requested to defer repayment of the Flexible Subsidy Loan on this project due to financial difficulties at the property.

Nature of Requirement: Section 219.220(b) of HUD's regulations govern the repayment of operating assistance provided under the Flexible Subsidy Program for Troubled Projects (Flexible Subsidy Program) and, prior to May 1, 1996, this provisions states: “Assistance that has been paid to a project owner under this subpart must be repaid at the earlier of the expiration of the term of the mortgage, termination of these actions would typically terminate FHA involvement with the property, and the Flexible Subsidy loan would be repaid, in whole, at that time.” Because there has been no new operating assistance provided under the Flexible Subsidy Program since 1996, the 1996 regulations continue to govern the rights and obligations of housing owners and tenants with respect to projects assisted under the Flexible Subsidy Program prior to May 1996.

Granted by: David H. Stevens, Assistant Secretary for Housing-Federal Housing Commissioner.

Date Granted: October 15, 2010.

Reason Waived: The owner requested and was granted a waiver to defer of repayment of the Flexible Subsidy Operating Assistance Loan at the time of repayment of the mortgage. This allowed the owner to utilize funds to complete many necessary repairs at the project, thereby strengthening the physical and financial stability of the project. The loan will be re-amortized over a 20-year period and a new rental Use Agreement is to be executed. This waiver will also prevent displacement of tenants and serve to preserve this project as an affordable housing resource.

Contact: Marilyn M. Edge, Acting Director, Office of Asset Management, Office of Housing, Department of Housing and Urban Development, 451 Seventh Street, SW., Room 6164, Washington, DC 20410-8000, telephone (202) 708-3730, extension 7538.

• Regulation: 24 CFR 219.220(b).

Project/Activity: Twin Parks N.E., Bronx, New York—FHA Project Number 012-027NI. The owner requested waiver of this regulation to permit transfer of ownership, and to make urgently needed repairs at the property.

Nature of Requirement: Section 219.220(b) of HUD's regulations govern the repayment of operating assistance provided under the Flexible Subsidy Program for Troubled Projects (Flexible Subsidy Program) and, prior to May 1, 1996, this provisions states: “Assistance that has been paid to a project owner under this subpart must be repaid at the earlier of the expiration of the term of the mortgage, termination of these actions would typically terminate FHA involvement with the property, and the Flexible Subsidy loan would be repaid, in whole, at that time.” Because there has been no new operating assistance provided under the Flexible Subsidy Program since 1996, the 1996 regulations continue to govern the rights and obligations of housing owners and tenants with respect to projects assisted under the Flexible Subsidy Program prior to May 1996.

Granted by: David H. Stevens, Assistant Secretary for Housing—Federal Housing Commissioner.

Date Granted: October 15, 2010.

Reason Waived: The granting of this regulatory waiver allowed the sale of Twin Parks, N.E. and deferral of repayment of the Flexible Subsidy Loan in full upon prepayment of the Section 236 mortgage. The new owner agreed to address the physical needs of the property by making urgently needed repairs. The mortgage will be re-amortized over a 20-year period maintaining the property as an affordable housing resource.

Contact: Marilyn M. Edge, Acting Director, Office of Asset Management, Office of Housing, Department of Housing and Urban Development, 451 Seventh Street, SW., Room 6164, Washington, DC 20410-8000, telephone (202) 708-3730, extension 7538.

• Regulation: 24 CFR 219.220(b).

Project/Activity: Zion Towers, Newark, New Jersey—FHA Project Number 031-003-NI. The owner requested waiver of this regulation to permit deferral of repayment of the Flexible Subsidy Loans upon refinancing of the Section 236 mortgage.

Nature of Requirement: Section 219.220(b) of HUD's regulations govern the repayment of operating assistance provided under the Flexible Subsidy Program for Troubled Projects (Flexible Subsidy Program) and, prior to May 1, 1996, this provisions states: “Assistance that has been paid to a project owner under this subpart must be repaid at the earlier of the expiration of the term of the mortgage, termination of these actions would typically terminate FHA involvement with the property, and the Flexible Subsidy loan would be repaid, in whole, at that time.” Because there has been no new operating assistance provided under the Flexible Subsidy Program since 1996, the 1996 regulations continue to govern the rights and obligations of housing owners and tenants with respect to projects assisted under the Flexible Subsidy Program prior to May 1996.

Granted by: David H. Stevens, Assistant Secretary for Housing—Federal Housing Commissioner.

Date Granted: November 10, 2010.

Reason Waived: Granting the waiver allowed the proposed owner to assume the loan, remove the seller from the transaction and gain site control. The new owner proposed rehabilitation of the project which would benefit the City of Newark, contribute to improvement of the neighborhood, reduce criminal activity through improvements in security, and improve living conditions for the residents of Zion Towers. Deferral of repayment of the Flexible Subsidy Loans would increase the availability of funds for the project. A new rental Use Agreement is to be executed, extending the affordability of the project through the term of the new financing.

Contact: Marilyn M. Edge, Acting Director, Office of Asset Management, Office of Housing, Department of Housing and Urban Development, 451 Seventh Street, SW., Room 6164, Washington, DC 20410-8000, telephone (202) 708-3730, extension 7538.

• Regulation: 24 CFR 219.220(b).

Project/Activity: Council Towers Apartments—FHA Project Number 085-SH010. The owner requested to sell the property and allow a profit-motivated owner to refinance the mortgage. Deferral of repayment of the Flexible Subsidy Operating Assistance Loan on this project will allow a longer term to pay off the loan.

Nature of Requirement: Section 219.220(b) of HUD's regulations govern the repayment of operating assistance provided under the Flexible Subsidy Program for Troubled Projects (Flexible Subsidy Program) and, prior to May 1, 1996, this provisions states: “Assistance that has been paid to a project owner under this subpart must be repaid at the earlier of the expiration of the term of the mortgage, termination of these actions would typically terminate FHA involvement with the property, and the Flexible Subsidy loan would be repaid, in whole, at that time.” Because there has been no new operating assistance provided under the Flexible Subsidy Program since 1996, the 1996 regulations continue to govern the rights and obligations of housing owners and tenants with respect to projects assisted under the Flexible Subsidy Program prior to May 1996.

Granted by: David H. Stevens, Assistant Secretary for Housing—Federal Housing Commissioner.

Date Granted: November 22, 2010.

Reason Waived: The owner requested waiver of the requirement to defer repayment of the Flexible Subsidy Operating Assistance Loan because the project is 40 years old, 50 percent occupied, in poor condition and unable to repay the loan at the time of sale or refinancing. Deferment is necessary to recapitalize the property and make urgently needed repairs which will preserve the property as affordable housing in good condition for the long term. A new rental Use Agreement is to be executed for the 40-year term of the new loan.

Contact: Marilyn M. Edge, Acting Director, Office of Asset Management, Office of Housing, Department of Housing and Urban Development, 451 Seventh Street, SW., Room 6164, Washington, DC 20410-8000, telephone (202) 708-3730, extension 7538.

• Regulation: 24 CFR 219.220(b).

Project/Activity: Guild Park Apartments, San Antonio, Texas—FHA Project Number 115-35035. The owner requested to defer repayment of the Flexible Subsidy loans on this project.

Nature of Requirement: Section 219.220(b) of HUD's regulations govern the repayment of operating assistance provided under the Flexible Subsidy Program for Troubled Projects (Flexible Subsidy Program) and, prior to May 1, 1996, this provisions states: “Assistance that has been paid to a project owner under this subpart must be repaid at the earlier of the expiration of the term of the mortgage, termination of these actions would typically terminate FHA involvement with the property, and the Flexible Subsidy loan would be repaid, in whole, at that time.” Because there has been no new operating assistance provided under the Flexible Subsidy Program since 1996, the 1996 regulations continue to govern the rights and obligations of housing owners and tenants with respect to projects assisted under the Flexible Subsidy Program prior to May 1996.

Granted by: David H. Stevens, Assistant Secretary for Housing—Federal Housing Commissioner.

Date Granted: December 14, 2010.

Reason Waived: This waiver was granted in order to allow the owner to amortize the flexible subsidy debt with a newly financed mortgage. The owner is to record a new rental Use Agreement for the 40-year term of the re-amortized Flexible Subsidy Loan, extending project affordability until November 1, 2051. This waiver will ensure that the current residents are not displaced or lose their subsidy and that the project will be substantially rehabilitated to meet or exceed the Department's standards for providing safe, decent, sanitary and affordable housing.

Contact: Marilyn M. Edge, Acting Director, Office of Asset Management, Office of Housing, Department of Housing and Urban Development, 451 Seventh Street, SW., Room 6164, Washington, DC 20410-8000, telephone (202) 708-3730, extension 2078.

• Regulation: 24 CFR 232.3.

Project/Activity: Sarah's Place Memory Care; Glendale, AZ.

Nature of Requirement: HUD's regulation at 24 CFR 232.3 requires one full bathroom for every four residents of a board and care home or assisted living facility and bathroom access must not pass through a public corridor or area.

Granted by: David H. Stevens, Assistant Secretary for Housing—Federal Housing Commissioner.

Date Granted: December 2, 2010.

Reason Waived: The project agreed to provide for one half-bath per single occupancy residency unit and one full bathroom with shower or bath per six residency units. The project is a memory care facility and residents require staff supervision for bathing safely; therefore, the facility is designed with bathing facilities located centrally to insure supervision. This design is similar to newer memory care facilities found throughout the country.

Contact: Renee D. Greenman, Director, NW/Alaska Multifamily, Seattle Federal Office Building, Office of Housing, Department of Housing and Urban Development, 909 First Avenue, Room 190, Seattle, Washington 98104-1000, telephone (206) 220-6227.

• Regulation: 24 CFR 232.3.

Project/Activity: Mayberry Gardens, V; Garland, TX.

Nature of Requirement: HUD's regulation at 24 CFR 232.3 requires one full bathroom for every four residents of a board and care home or assisted living facility and bathroom access must not pass through a public corridor or area.

Granted by: David H. Stevens, Assistant Secretary for Housing—Federal Housing Commissioner.

Date Granted: December 2, 2010.

Reason Waived: HUD granted the waiver because the loan is to be used to provide three additional building of 11 units each to an existing 88 unit facility. For each building of 11 units, three units will have accessible private baths, three will have accessible half-baths and five will have inaccessible half baths. The two bathing facilities are located in the center of the building and will serve the eight inaccessible units. Although the bathing facilities are across a public corridor, the facilities are not located in an area that will be frequented by anyone other than residents and staff. Additionally, the regulations do not define “public corridor.” The current facility has an 8/1 resident/bathing facility ratio and maintains a 98% or better occupancy rate. Because many residents are frail, families typically prefer assistance for bathing in a central facility even when private facilities are available.

Contact: Renee D. Greenman, Director, NW/Alaska Multifamily, Seattle Federal Office Building, Office of Housing, Department of Housing and Urban Development, 909 First Avenue, Room 190, Seattle, Washington 98104-1000, telephone (206) 220-6227.

• Regulation: 24 CFR 232.251(a), 207.258b(b), and 207.258b(c)(1).

Project/Activity: The Lenox on the Lake, Lauderhill, FL.

Nature of Requirement: HUD's regulations at the above-referenced provisions: require the mortgagee to notify the Commissioner of its election to assign the mortgage to HUD (24 CFR 207.251(a)); and restrict partial payments of claims to, inter alia, when necessary for maintaining “the low-and moderate-income character” of the project (24 CFR 258b(b) and 207.258b(c)(1)).

Granted by: David H. Stevens, Assistant Secretary for Housing—Federal Housing Commissioner.

Date Granted: November 12, 2010.

Reason Waived: Waiver of these regulations allowed the mortgagee to participate in a partial payment of claim that would be less costly to the federal government. It is anticipated the fund would avoid paying a $21.47 million claim and instead make a partial payment that is $11 million less. Additionally, granting of the waiver allowed the continuing operations of the facility, thus 90 elderly residents would not be uprooted and the facility would remain a viable housing choice.

Contact: John Hartung, Senior Account Executive, St. Louis Field Office, Office of Housing, Department of Housing and Urban Development, 1222 Spruce Street, St. Louis, MO 63103-2836, telephone (314) 539-6333.

• Regulation: 24 CFR 290.30(a).

Project/Activity: Marion Avenue Apartments, Bronx, New York—FHA Project Number 012-35312V. The owner requested waiver of this regulation to permit the purchase of this HUD-Held mortgage loan on a noncompetitive basis.

Nature of Requirement: HUD's regulations governing the sale of HUD-Held mortgages are set forth in 24 CFR part 290, subpart B. Section 290.30(a) of those regulations state: “[e]xcept as otherwise provided in Section 290.31(a)(2), HUD will sell HUD-Held multifamily mortgages on a competitive basis.” Section 290.31(a)(2) permits “negotiated” sales to state or local governments for mortgage loans that are current and secured by subsidized projects, provided such loans are sold with FHA insurance.

Granted by: David H. Stevens, Assistant Secretary for Housing—Federal Housing Commissioner.

Date Granted: November 4, 2010.

Reason Waived: Granting of the waiver allowed the sale of Marion Avenue Apartments on a non-competitive basis. The sale of the property will provide a tax savings to the state of New York, as well as preserving the property as affordable housing. These measures also serve to prevent foreclosure of the property.

Contact: Marilyn M. Edge, Acting Director, Office of Asset Management, Office of Housing, Department of Housing and Urban Development, 451 Seventh Street, SW., Room 6164, Washington, DC 20410-8000, telephone (202) 708-3730, extension 7538.

• Regulation: 24 CFR 891.100(d).

Project/Activity: Kappa House II Apartments, Cleveland, OH, Project Number: 042-EE206/OH12-S061-004.

Nature of Requirement: Section 891.100(d) prohibits amendment of the amount of the approved capital advance funds prior to closing.

Granted by: David H. Stevens, Assistant Secretary for Housing—Federal Housing Commissioner.

Date Granted: October 22, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: CAAP Place of Hope, Memphis, TN, Project Number: 081-HD026/TN40-Q081-005.

Nature of Requirement: Section 891.100(d) prohibits amendment of the amount of the approved capital advance funds prior to closing.

Granted by: David H. Stevens, Assistant Secretary for Housing—Federal Housing Commissioner.

Date Granted: November 23, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: The Apartments at St. Elizabeth's, Linden, NJ, Project Number: 031-HD155/NJ39-Q081-001.

Nature of Requirement: Section 891.100(d) prohibits amendment of the amount of the approved capital advance funds prior to closing.

Granted by: David H. Stevens, Assistant Secretary for Housing—Federal Housing Commissioner.

Date Granted: November 24, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d) and 24 CFR 891.165.

Project/Activity: Pelican Place Apartments, Wooster, OH, Project Number: 042-HD148/OH12-Q071-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: David H. Stevens, Assistant Secretary for Housing—Federal Housing Commissioner.

Date Granted: October 29, 2010.

Reason Waived: The project is economically designed and comparable in cost to similar projects in the area, and the sponsor/owner exhausted all efforts to obtain additional funding from other sources and additional time was needed to allow the sponsor time to obtain gap financing, issue the Firm Commitment and to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.100(d) and 24 CFR 891.165.

Project/Activity: West Bergen ILP 2005, Ridgewood, NJ, Project Number: 031-HD145/NJ39-Q051-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: David H. Stevens, Assistant Secretary for Housing—Federal Housing Commissioner.

Date Granted: December 15, 2010.

Reason Waived: The project is economically designed and comparable in cost to similar projects in the area, and the sponsor/owner exhausted all efforts to obtain additional funding from other sources and additional time was needed for issuance of the firm commitment and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.100(d) and 24 CFR 891.165.

Project/Activity: Bridge Gardens, Bronx, NY, Project Number: 012-HD106/NY36-Q011-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: David H. Stevens, Assistant Secretary for Housing—Federal Housing Commissioner.

Date Granted: December 23, 2010.

Reason Waived: The project is economically designed and comparable in cost to similar projects in the area, and the sponsor/owner exhausted all efforts to obtain additional funding from other sources and additional time was needed to issue the firm commitment and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Hale Mahaolu Ehiku, Phase II, Project Number: 140-EE035/HI10-S051-002.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: October 4, 2010.

Reason Waived: Additional time was needed for this mixed finance project to resolve cost certification issues and for initial/final closing to take place.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Oakridge Park Apartments, Lake Oswego, OR, Project Number: 126-EE059/OR16-S061-002.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: October 4, 2010.

Reason Waived: Additional time was needed for the tax credit investor to prepare for endorsement and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Emerald Rose I Apartments, Burton, OH, Project Number: 042-HD141/OH12-Q061-004.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: October 6, 2010.

Reason Waived: Additional time was needed for the field office to complete its review of the new site, submit the request for approval of the site change to HUD Headquarters and for the project to reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Sierra Manor II, Reno, NV, Project Number: 125-EE129/Nv25-S061-003.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: October 6, 2010.

Reason Waived: Additional time was needed for the sponsor/owners to obtain additional documentation from their general contractor, for the firm commitment to be processed and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Parham House, Vista, CA, Project Number: 129-HD031/CA33-Q061-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: October 21, 2010.

Reason Waived: Additional time was needed for the contractor to obtain bonding, for the loan documents for the additional funding to be finalized and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Harrison Street Senior Housing, Oakland, CA, Project Number: 121-EE204/CA39-S071-008.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: October 21, 2010.

Reason Waived: Additional time was needed to complete the review and approval of the closing documents and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Paseo De Luz Apartments, Oxnard, CA, Project Number: 122-HD168/CA16-Q071-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: October 21, 2010.

Reason Waived: Additional time was needed for the lenders to complete their review of the firm commitment, update their reports, finalize their loan documents, and complete disbursement of all funds and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: San Marino Apartments, Montclair, CA, Project Number: 143-EE062/CA43-S061-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: October 22, 2010.

Reason Waived: Additional time was needed to prepare for and achieve initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Brunswick Apartments, Brunswick, OH, Project Number: 042-HD152/OH12-Q071-007.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: October 22, 2010.

Reason Waived: Additional time was needed to issue the firm commitment and for the project to reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: St. Theresa's Elderly Housing (aka: Rose Hill Manor), Billerica, MA, Project Number: 023-EE216/MA06-S071-006.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: October 25, 2010.

Reason Waived: Additional time was needed to make changes and modifications to the HUD lease addendum and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Fillmore Haciendas, Phoenix, AZ, Project Number: 13-EE105/AZ20-S071-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 17, 2010.

Reason Waived: Additional time was needed for the initial closing package to be processed and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Willow Glen Apartments (aka: Newton Falls), Newton Falls, OH, Project Number: 042-EE223/OH12-S071-009.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: December 1, 2010.

Reason Waived: Additional time was needed for the county to complete an environmental review, issue the firm commitment and for the project to reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: AHEPA Apartment #63, Tallmadge, OH, Project Number: 042-EE218/OH12-S071-004.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: December 15, 2010.

Reason Waived: Additional time was needed for the sponsor to form the ownership limited partnership for the project, form the firm commitment to be reprocessed and for the project reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: RJ Piltz Vista Bonita (aka: ASI-Mesa), Mesa, AZ, Project Number: 123-HD041/AZ20-Q061-003.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: December 15, 2010.

Reason Waived: Additional time was needed for the sponsor/owner's architect to make the adjustments to the plans required by the City of Mesa, for the firm commitment to be issued and for the project reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Cedar Street Apartments, Redwood City, CA, Project Number: 121-HD090/CA39-Q071-002.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: December 23, 2010.

Reason Waived: Additional time was needed for because the General Contractor suddenly passed away and the sponsor/owner needs to review the credentials of the replacement contractor and for the project reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Kappa House II Apartments, Cleveland, OH, Project Number: 042-EE206/OH12-S061-004.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: December 23, 2010.

Reason Waived: Additional time was needed to review a revised draft initial closing package which was submitted late due to an Ownership change in the consultant firm and the illness of the Owner's project counsel and for the project reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Willows at Melvin Place, Everett, WA, Project Number: 127-HD041/WA19-Q081-001.

Nature of Requirement: Section 891.165 provides that the duration of the fund reservation of the capital advance is 18 months from the date of issuance with limited exceptions up to 24 months, as approved by HUD on a case-by-case basis.

Granted by: David H. Stevens, Assistant Secretary for Housing-Federal Housing Commissioner.

Date Granted: December 23, 2010.

Reason Waived: Additional time was needed for the sponsor/owner to prepare the closing documents and for the project reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165, 24 CFR 891.830(b), CFR 891.830(c)(4) and 24 CFR 891.830(c)(5).

Project/Activity: Acacia Lane Senior Housing, Santa Rosa, CA, Project Number: 121-EE205/CA39-S081-001.

Nature of Requirement: Section 891.165 provides that the duration of the fund reservation of the capital advance is 18 months from the date of issuance with limited exceptions up to 24 months, as approved by HUD on a case-by-case basis. Section 891.830(b) allows the capital advance funds be drawn down only in an approved ratio to other funds, in accordance with draw down schedule approved by HUD. Section 891.830(c)(4) permits the capital advance drawn down will be used only for eligible costs actually incurred in accordance with the provisions of this subpart and the approved mixed-finance project. Section 891.830(c)(5) allows the amount of the draw down is consistent with the ratio of 202 or 811 supportive housing units to other units.

Granted by: David H. Stevens, Assistant Secretary for Housing-Federal Housing Commissioner.

Date Granted: November 23, 2010.

Reason Waived: Additional time was needed for issuance of the firm commitment, construction of the project and for initial/final closing of this capital advance upon completion of project. Additionally, granting of the waiver allowed the capital advance to be drawn down in one requisition, to pay off that portion of a bridge or construction financing, or bonds that strictly relate to capital advance eligible costs after completion of construction at initial/final closing.

Contact: Willie Spearmon, Director, Office of Housing Assistance and Grant Administration, Office of Housing, Department of Housing and Urban Development, 451 Seventh Street, SW., Room 6134, Washington, DC 20410-8000, telephone (202) 708-3000.

• Regulation: 24 CFR 891.830(c)(4).

Project/Activity: Elim Manor, Columbus, OH, Project Number: 043-EE125/OH16-S081-004.

Nature of Requirement: Section 891.830(c)(4) prohibits the capital advance funds from paying off bridge or construction financing, or repaying or collateralizing bonds.

Granted by: David H. Stevens, Assistant Secretary for Housing-Federal Housing Commissioner.

Date Granted: December 13, 2010.

Reason Waived: The waiver was granted to permit capital advance funds to be used to pay off that portion of a bridge or construction financing, or repaying a portion of bonds that strictly relate to capital advance eligible costs.

Contact: Willie Spearmon, Director, Office of Housing Assistance and Grant Administration, Office of Housing, Department of Housing and Urban Development, 451 Seventh Street, SW., Room 6134, Washington, DC 20410-8000, telephone (202) 708-3000.

III. Regulatory Waivers Granted by the Office of Public and Indian Housing

For further information about the following regulatory waivers, please see the name of the contact person that immediately follows the description of the waiver granted.

• Regulation: 24 CFR 5.801(d)(1).

Project/Activity: Burlington County Human Services Facility Rental Assistance, (NJ215), Mount Holly, NJ.

Nature of Requirement: The regulation establishes certain reporting compliance dates. Audited financial statements are required to be submitted to the Real Estate Assessment Center (REAC) no later than nine months after the housing authority's (HA) fiscal year end (FYE), in accordance with the Single Audit Act and OMB Circular A-133.

Granted by: Sandra B. Henriquez, Assistant Secretary for Public and Indian Housing.

Date Granted: November 12, 2010.

Reason Waived: The HA submitted that their auditor was not able to certify, verify and submit the audited financial information for fiscal year end (FYE) December 31, 2009, as a result of an unexpected absence and a slight problem with the auditor's access to the Real Estate Assessment Center (REAC) Secure System. The waiver was granted. The additional two weeks permitted the audit documentation to be compiled and submitted into REAC's secure system.

Contact: Johnson Abraham, Acting Program Manager, NASS, Real Estate Assessment Center, Office of Public and Indian Housing, Department of Housing and Urban Development, 550 12th Street, SW., Suite 100, Washington, DC 20410, telephone (202) 475-8583.

• Regulation: 24 CFR 902.40.

Project/Activity: Housing Authority of Maricopa County, (AZ009), Phoenix, AZ.

Nature of Requirement: The regulation establishes that public housing agencies (PHAs) are required to submit a management operations certification under Public Housing Assessment System (PHAS). In accordance with Federal Register Notice (FR-5428-N-01), dated July 23, 2010, PHAs that requested and received an approved waiver for their management operations certification for FYEs June 30, 2009, or September 30, 2009, may request another waiver for the FYE June 30, 2010, or September 30, 2010.

Granted by: Sandra B. Henriquez, Assistant Secretary for Public and Indian Housing.

Date Granted: October 8, 2010.

Reason Waived: The HA received an approved waiver from HUD on June 30, 2009. The HA is continuing its conversion to asset management, established ten Asset Management Projects (AMP) and has expanded the role of its AMP Managers. The burden of trying to certify MASS performance while continuing to move forward would result in an unreasonable hardship. The waiver was granted for FYE June 30, 2010 and the most recent management operations score of record will be carried over to the fiscal year being assessed.

Contact: Johnson Abraham, Program Manager, NASS, Real Estate Assessment Center, Office of Public and Indian Housing, Department of Housing and Urban Development, 550 Twelfth Street, SW., Suite 100, Washington, DC 20410, telephone (202) 475-8583.

• Regulation: 24 CFR 902.40.

Project/Activity: Jackson County Housing Authority, (IL053), Murphysboro, IL.

Nature of Requirement: The regulation establishes that public housing agencies (PHAs) are required to submit a management operations certification under Public Housing Assessment System (PHAS). In accordance with Federal Register Notice (FR-5428-N-01), dated July 23, 2010, PHAs that requested and received an approved waiver for their management operations certification for FYEs June 30, 2009, or September 30, 2009, may request another waiver for the FYE June 30, 2010, or September 30, 2010.

Granted by: Sandra B. Henriquez, Assistant Secretary for Public and Indian Housing.

Date Granted: October 08, 2010.

Reason Waived: The HA received an approved waiver for fiscal year end (FYE) June 30, 2009. The HA is continuing its convert its properties to Asset Management Projects (AMPS) and is rewriting its software to conform to the new reporting requirements for an AMP reconfiguration. The burden of trying to certify MASS performance while continuing to move forward with the conversion to asset management would result in an unreasonable hardship. The waiver was granted for FYE June 30, 2010 and the most recent management operations score of record will be carried over to the fiscal year being assessed.

Contact: Johnson Abraham, Program Manager, NASS, Real Estate Assessment Center, Office of Public and Indian Housing, Department of Housing and Urban Development, 550 Twelfth Street, SW., Suite 100, Washington, DC 20410, telephone (202) 475-8583.

• Regulation: 24 CFR 902.40.

Project/Activity: Fayetteville Metropolitan Housing Authority, (NC009), Fayetteville, NC.

Nature of Requirement: The regulation establishes that public housing agencies (PHAs) are required to submit a management operations certification under Public Housing Assessment System (PHAS). In accordance with Federal Register Notice (FR-5428-N-01), dated July 23, 2010, PHAs that requested and received an approved waiver for their management operations certification for FYEs June 30, 2009, or September 30, 2009, may request another waiver for the FYE June 30, 2010, or September 30, 2010.

Granted by: Sandra B. Henriquez, Assistant Secretary for Public and Indian Housing.

Date Granted: October 21, 2010.

Reason Waived: The HA is continuing its conversion to asset management. Concurrently, the HA has undertaken a number of projects including a $ 20 million 2007 HOPE VI Revitalization Grant Program, a $ 6.5 million 2009 Capital Fund Recovery Completive Grant and a series of additional grant programs that focus on improving and administering its 796 public housing units. The HA submitted that having to submit its management operations certification while continuing to move forward with the conversion would result in an unreasonable hardship. The waiver was granted for FYE September 30, 2010 and the most recent management operations score of record will be carried over to the fiscal year being assessed.

Contact: Johnson Abraham, Program Manager, NASS, Real Estate Assessment Center, Office of Public and Indian Housing, Department of Housing and Urban Development, 550 Twelfth Street, SW., Suite 100, Washington, DC 20410, telephone (202) 475-8583.

• Regulation: 24 CFR 902.40.

Project/Activity: Knoxville Community Development Corporation, (TN003), Knoxville, TN.

Nature of Requirement: The regulation establishes that public housing agencies (PHAs) are required to submit a management operations certification under Public Housing Assessment System (PHAS). In accordance with Federal Register Notice (FR-5428-N-01), dated July 23, 2010, PHAs that requested and received an approved waiver for their management operations certification for FYEs June 30, 2009, or September 30, 2009, may request another waiver for the FYE June 30, 2010, or September 30, 2010.

Granted by: Sandra B. Henriquez, Assistant Secretary for Public and Indian Housing.

Date Granted: November 8, 2010.

Reason Waived: The HA received an approved waiver from HUD on May 25, 2010. The HA is transitioning to asset management and compiling and submitting a management operations certification would impose an administrative hardship. The HA submitted that a waiver of the requirement of the MASS certification would allow their staff to concentrate on organizational, procedural and software changes that transition the HA's operations of assets from portfolio- based to property-based management. The waiver was granted for FYE June 30, 2010 and the most recent management operations score of record will be carried over to the fiscal year being assessed.

Contact: Johnson Abraham, Program Manager, NASS, Real Estate Assessment Center, Office of Public and Indian Housing, Department of Housing and Urban Development, 550 Twelfth Street, SW., Suite 100, Washington, DC 20410, telephone (202) 475-8583.

• Regulation: 24 CFR 902.40.

Project/Activity: Housing Authority of Clackamas County, (OR011), Oregon City, OR.

Nature of Requirement: The regulation establishes that public housing agencies (PHAs) are required to submit a management operations certification under Public Housing Assessment System (PHAS). In accordance with Federal Register Notice (FR-5428-N-01), dated July 23, 2010, PHAs that requested and received an approved waiver for their management operations certification for FYEs June 30, 2009, or September 30, 2009, may request another waiver for the FYE June 30, 2010, or September 30, 2010.

Granted by: Sandra B. Henriquez, Assistant Secretary for Public and Indian Housing.

Date Granted: December 8, 2010.

Reason Waived: The HA received an approved waiver from HUD on June 30, 2009 and completed its conversion to asset management during FYE 2008. The HA requested a waiver due to the resulting hardship created by having to certify its MASS performance during the transition period and prior to any potential regulatory changes that may result at some future point in time. The waiver was granted for FYE June 30, 2010 and the most recent management operations score of record will be carried over to the fiscal year being assessed.

Contact: Johnson Abraham, Program Manager, NASS, Real Estate Assessment Center, Office of Public and Indian Housing, Department of Housing and Urban Development, Twelfth Street, SW., Suite 100, Washington, DC 20410, telephone (202) 475-8583.

• Regulation: 24 CFR 982.505(c)(3).

Project/Activity: Indianapolis Housing Authority (IHA), Indianapolis, IN.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: July 2, 2010.

Reason Waived: This waiver was granted because this cost-saving measure would enable the IHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 982.505(c)(3).

Project/Activity: Inglewood Housing Authority (IHA), Inglewood, CA.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: July 2, 2010.

Reason Waived: This waiver was granted because this cost-saving measure would enable the IHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 982.505(c)(3).

Project/Activity: Housing Authority of Skagit County (HASC), Skagit County, WA.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: July 8, 2010.

Reason Waived: This waiver was granted because this cost-saving measure would enable the HASC to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 982.505(c)(3).

Project/Activity: West Springfield Housing Authority (WSHA), West Springfield, MA.

Nature of Requirement: 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: July 8, 2010.

Reason Waived: This waiver was granted because this cost-saving measure would enable the WSHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 982.505(c)(3).

Project/Activity: Worthington Housing and Redevelopment Authority (WHRA), Worthington, MN.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: July 8, 2010.

Reason Waived: This waiver was granted because this cost-saving measure would enable the WHRA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 982.505(c)(3).

Project/Activity: Crookston Housing and Economic Development Authority (CHEDA), Crookston, MN.

Nature of Requirement: HUDS's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: July 19, 2010.

Reason Waived: This waiver was granted because this cost-saving measure would enable the CHEDA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 982.505(c)(3).

Project/Activity: East Chicago Housing Authority (ECHA), East Chicago, IN.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: July 20, 2010.

Reason Waived: This waiver was granted because this cost-saving measure would enable the ECHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 982.505(c)(3).

Project/Activity: Carbon County Housing Authority (CCHA), Carbon County, PA.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: July 29, 2010.

Reason Waived: This waiver was granted because this cost-saving measure would enable the CCHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 982.505(c)(3).

Project/Activity: LeSueur County Housing and Redevelopment Authority (LCHRA), LeSueur County, MN.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: July 29, 2010.

Reason Waived: This waiver was granted because this cost-saving measure would enable the LCHRA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 982.505(c)(3).

Project/Activity: Randolph County Housing Authority (RCHA), Randolph County, IL.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: August 6, 2010.

Reason Waived: This waiver was granted because this cost-saving measure would enable the RCHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 982.505(c)(3).

Project/Activity: Richmond Housing Authority (RHA), Richmond, IN.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: August 13, 2010.

Reason Waived: This waiver was granted because this cost-saving measure would enable the RHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 982.505(c)(3).

Project/Activity: Terrebone Parish Consolidated Government (TPCG), Terrebone Parish, LA.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: August 18, 2010.

Reason Waived: This waiver was granted because this cost-saving measure would enable the TPCG to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 982.505(c)(3).

Project/Activity: People Incorporated of Southwest Virginia (PISV), Arlington, VA.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: September 21, 2010.

Reason Waived: This waiver was granted because this cost-saving measure would enable the PISV to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 982.505(d).

Project/Activity: Housing Authority of the City of Los Angeles (HACLA), Los Angeles, CA.

Nature of Requirement: HUD's regulation at 24 CFR 982.505(d) states that a public housing agency may only approve a higher payment standard for a family as a reasonable accommodation if the higher payment standard is within the basic range of 90 to 110 percent of the fair market rent (FMR) for the unit size.

Granted by: Sandra B. Henriquez, Assistant Secretary for Public and Indian Housing.

Date Granted: July 2, 2010.

Reason Waived: The participant, who is disabled, required an exception payment standard to remain in her assisted unit. Her health care provider confirmed the need for this participant to remain in her unit. To provide this reasonable accommodation so the client could be assisted in her current unit and pay no more than 40 percent of her adjusted income toward the family share, the HACLA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 982.505(d).

Project/Activity: Cumberland County Housing Authority, Cumberland (CCHA), Cumberland County, PA.

Nature of Requirement: HUD's regulation at 24 CFR 982.505(d) states that a public housing agency may only approve a higher payment standard for a family as a reasonable accommodation if the higher payment standard is within the basic range of 90 to 110 percent of the fair market rent (FMR) for the unit size.

Granted by: Sandra B. Henriquez, Assistant Secretary for Public and Indian Housing.

Date Granted: July 20, 2010.

Reason Waived: The participant, who has a disabled daughter, required an exception payment standard to remain in her assisted unit as her daughter's health care provider recommended that she not relocate. To provide this reasonable accommodation so the client could be assisted in her current unit and pay no more than 40 percent of her adjusted income toward the family share, the CCHA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 982.505(d).

Project/Activity: Grand Forks Housing Authority (GFHA), Grand Forks, ND.

Nature of Requirement: HUD's regulation at 24 CFR 982.505(d) states that a public housing agency may only approve a higher payment standard for a family as a reasonable accommodation if the higher payment standard is within the basic range of 90 to 110 percent of the fair market rent (FMR) for the unit size.

Granted by: Sandra B. Henriquez, Assistant Secretary for Public and Indian Housing.

Date Granted: August 13, 2010.

Reason Waived: The participant, who is disabled, required a wheelchair-accessible unit. To provide this reasonable accommodation so the client could be assisted in this unit and pay no more than 40 percent of her adjusted income toward the family share, the GFHA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 982.505(d).

Project/Activity: Lincoln Housing Authority (LHA), Lincoln, RI.

Nature of Requirement: HUD's regulation at 24 CFR 982.505(d) states that a public housing agency may only approve a higher payment standard for a family as a reasonable accommodation if the higher payment standard is within the basic range of 90 to 110 percent of the fair market rent (FMR) for the unit size.

Granted by: Sandra B. Henriquez, Assistant Secretary for Public and Indian Housing.

Date Granted: August 13, 2010.

Reason Waived: The applicant, who is disabled, needed a unit that is free of chemical fumes. To provide this reasonable accommodation so the client could be assisted in this unit and pay no more than 40 percent of her adjusted income toward the family share, the LHA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 982.505(d).

Project/Activity: Northeast Oregon Housing Authority (NOHA), La Grande, OR.

Nature of Requirement: HUD's regulation at 24 CFR 982.505(d) states that a public housing agency may only approve a higher payment standard for a family as a reasonable accommodation if the higher payment standard is within the basic range of 90 to 110 percent of the fair market rent (FMR) for the unit size.

Granted by: Sandra B. Henriquez, Assistant Secretary for Public and Indian Housing.

Date Granted: August 17, 2010.

Reason Waived: The participant, who is disabled, needed a unit that is wheelchair-accessible with yard space for a service dog in order to provide reasonable accommodation. To provide this reasonable accommodation so the client could be assisted in this current unit and pay no more than 40 percent of her adjusted income toward the family share, the NOHA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 983.55(b).

Project/Activity: Minneapolis Public Housing Authority (MPHA), Minneapolis, MN.

Nature of Requirement: HUD's regulation at 24 CFR 983.55(b) states that the public housing agency may not enter an agreement to enter into a housing assistance payments contract (AHAP) until HUD or an independent entity approved by HUD has conducted any required subsidy layering review and determined that the project-based voucher assistance is in accordance with HUD subsidy layering requirements.

Granted by: Sandra B. Henriquez, Assistant Secretary for Public and Indian Housing.

Date Granted: September 2, 2010.

Reason Waived: This waiver was granted because MPHA misunderstood the requirements and did not attempt to avoid compliance. The project also complied with HUD's strategic goal of increasing the number of affordable housing for families.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 983.58(d)(1)(i), 983.152(b), and 983.153(a) and (b).

Project/Activity: Minneapolis Public Housing Authority (MPHA), Minneapolis, MN.

Nature of Requirement: The first regulation prohibits the public housing agency (PHA) from entering into an Agreement to Enter into a HAP Contract (AHAP) or starting construction until such time as the responsible entity has completed the environmental review and HUD has approved the environmental certification and request for release of funds. The second regulation requires that a PHA enter into an AHAP in which the owner agrees to develop the contract units to comply with housing quality standards (HQS) and the PHA agrees that, upon timely completion of such development in accordance with the terms of the AHAP, the PHA will enter into a HAP contract with the owner for the units. The third regulation states that: (a) The PHA may not enter the AHAP with the owner until the subsidy layering review is completed; and (b) the PHA may not enter the AHAP with the owner until the environmental review is completed and the PHA has received the environmental approval.

Granted by: Sandra B. Henriquez, Assistant Secretary for Public and Indian Housing.

Date Granted: August 13, 2010.

Reason Waived: The waiver was granted based on the documentation that was reviewed by the field office showing that environmental review requirements were met and that the developer complied with the requirements under the AHAP, as well as the fact that without a commitment of PBV assistance the viability of six projects as affordable housing to replace the significant loss of affordable housing units as a result of Hurricane Katrina would be in jeopardy.

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

• Regulation: 24 CFR 983.152(a) and 983.153(c).

Project/Activity: Housing Authority of the City of Los Angeles (HACLA), Los Angeles, CA.

Nature of Requirement: HUD's regulation at 983.152(a) requires that a public housing agency (PHA) must enter into an Agreement to Enter into a Housing Assistance Payments (AHAP) Contract in a form required by HUD. HUD's regulation at 24 CFR 983.153(c) requires prompt execution of the AHAP after PHA notice of proposal selection to the selected owner.

Granted by: Sandra B. Henriquez, Assistant Secretary for Public and Indian Housing.

Date Granted: August 17, 2010.

Reason Waived: The waivers were granted because the owner certified that the developer complied with the requirements under the AHAP, and because the unique circumstances surrounding the need for PBV assistance for the project as an integral piece of a much larger funding commitment to serve low-income elderly, homeless and special needs populations

Contact: Laure Rawson, Acting Director, Housing Voucher Management and Operations Division, Office of Public Housing and Voucher Programs, Office of Public and Indian Housing, Department of Housing and Urban Development, 451 Seventh Street, SW., Room 4210, Washington, DC 20410; telephone (202) 708-0477.

[FR Doc. 2011-7525 Filed 3-30-11; 8:45 am]

BILLING CODE 4210-67-P